DEPARTMENT OF TRANSPORTATION

Federal Railroad Administration

Solicitation of Applications and Notice of Funding Availability for Reducing the Effects of Traumatic Exposure to Grade Crossing and Trespasser Incidents on Train Crews

AGENCY: Federal Railroad Administration (FRA), Department of Transportation (DOT).

ACTION: Notice of funds availability, solicitation of applications.

SUMMARY: Under this notice, FRA is soliciting applications from interested and responsible parties for a grant to assess the applicability of current knowledge about post traumatic interventions and to advance evidence-based recommendations for controlling the risks associated with traumatic exposure in the railroad setting.

DATES: FRA will begin accepting applications immediately after publication of this notice in the Federal Register. FRA will accept applications for this grant opportunity until August 16, 2010. Reviews will be conducted immediately following the solicitation close date and selection announcements will be made promptly.

ADDRESSES: Applications for grants under this Program must be submitted electronically to Grants.gov (http://www.grants.gov) following the detailed procedures in the grant application package online. The Grants.gov Web site allows organizations to find and apply electronically for competitive grant opportunities from all Federal grant-making agencies. Any entity wishing to submit an application pursuant to this notice should immediately initiate the process of registering with Grants.Gov.

FOR FURTHER INFORMATION CONTACT: Technical inquiries should be directed to Mr. Michael Coplen, Human Factors Program Manager, FRA, Mail Stop 20, 1200 New Jersey Avenue, SE., Washington, DC 20590 (Phone: (202) 493-6346; e-mail: Michael.Coplen@dot.gov). Non-technical inquiries should be directed to Ms. Jennifer Capps, Grants Officer, Office of Acquisition and Grants Services, FRA, 1200 New Jersey Avenue, SE., Washington, DC 20590 (Phone: (202) 493-0112; e-mail: Jennifer.Capps@dot.gov).

SUPPLEMENTARY INFORMATION: FRA's Office of Research and Development and Office of Railroad Safety are concerned about the health and safety of train crews who witness traumatic events from grade crossing and trespasser incidents. These incidents carry the risk of exposure to the sort of situations known to trigger severe emotional and psychological distress, including Post Traumatic Stress Disorder (PTSD) and the more immediate Acute Distress Disorder (ASD). FRA seeks to fund a grant assessing the applicability of current knowledge about post traumatic interventions and to advance evidence-based recommendations for controlling the risks associated with traumatic exposure in the railroad setting. The selected entity will develop one or more program designs suitable for implementation by rail carriers in partnership with their respective unions and researchers. FRA's Office of Research and Development has $50,000 available in fiscal year 2010 to fund a grant for the initial development of an intervention plan for reducing the effects of traumatic exposure to grade crossing and trespasser incidents in particular. Additional funding may be available in future years for expansion and implementation of the intervention.

Eligible Organizations. Any individual or organization with previous experience designing and implementing a PTSD intervention program, along with the skills, knowledge, and resources necessary to carry out the proposed research as the project director/principal investigator, is invited to develop an application for support.

Selection Criteria. Proposals submitted under this notice must, at a minimum, satisfy the following requirement: The principal investigator(s) identified to lead the technical effort under this program must have demonstrated experience working with employees and employers to successfully implement programs mediating the effects of employees' exposure to trauma. Proposals that meet the minimum qualifications will be evaluated using the following criteria:

1. Key Personnel and Supporting Organization. The technical qualifications and demonstrated experience of key personnel proposed to lead and perform the technical efforts (e.g., holding a Ph.D. in psychology or related fields, having peer-reviewed publications relating to PTSD, ASD, or other trauma interventions); and qualifications of primary and supporting organizations to fully and successfully execute the proposal plan within the proposed time frame and budget.

2. Technical Merit. Degree to which proposed ideas exhibit a basis in established scientific and psychological principles and practices; and the perceived likelihood of technical and practical success in a railroad environment.

Requirements and Conditions for Grant Applications. Detailed application requirements and conditions may be found in the grant application guidance (CFDA Number 20.313) for this solicitation on Grants.gov.

Issued in Washington, DC, on June 28, 2010.
Mark Yachmetz,
Associate Administrator for Railroad Policy and Development.

[FR Doc. 2010-16156 Filed 7-1-10; 8:45 am]

BILLING CODE 4910-06-P